DEPARTMENT OF THE INTERIOR

Bureau of Ocean Energy Management

[Docket No. BOEM-2023-0031]

Notice of Intent To Prepare an Environmental Assessment for a Wind Energy Research Lease on the Atlantic Outer Continental Shelf Offshore Maine

AGENCY: Bureau of Ocean Energy Management, Interior.

ACTION: Notice of intent.

SUMMARY: In compliance with the National Environmental Policy Act (NEPA) of 1969, as amended, the Bureau of Ocean Energy Management (BOEM) intends to prepare an environmental assessment (EA) to consider the reasonably foreseeable environmental consequences associated with the issuance of a research lease to the State of Maine. That lease would grant Maine the exclusive right to submit, for BOEM's potential approval, plans for wind energy-related research activities offshore Maine. BOEM is seeking public input regarding important environmental issues and the identification of reasonable alternatives that should be considered in the EA.

DATES: BOEM must receive your comments no later than June 5, 2023.

ADDRESSES: You may submit comments by either of the following methods:

• Federal eRulemaking Portal: https://www.regulations.gov. In the entry entitled, “Enter Keyword or ID,” enter BOEM-2023-0031, and then click “search.” Follow the instructions to submit public comments and view supporting and related materials available for this notice; or

• By U.S. Postal Service or other delivery service, send your comments and information to the following address: Bureau of Ocean Energy Management, Office of Renewable Energy Programs, 45600 Woodland Road, Mail Stop VAM-OREP, Sterling, VA 20166.

FOR FURTHER INFORMATION CONTACT: Jessica Stromberg, BOEM, Environment Branch for Renewable Energy, 45600 Woodland Road, Mail Stop VAM-OREP, Sterling, VA 20166, 703-787-1730, or jessica.stromberg@boem.gov.

SUPPLEMENTARY INFORMATION:

Authority: This notice of intent to prepare an EA is published pursuant to 43 CFR 46.305.

1. Background

On March 20, 2023, BOEM issued a notice that competitive interest did not exist in the area proposed for a research lease by the State of Maine (88 FR 16662). Thus, BOEM has decided to proceed with the research leasing process using the procedures described in 30 CFR 585.239. The next step in that process includes initiating an environmental review of potential impacts from activities associated with the research lease, if issued.

Proposed Action and Scope of Analysis

The proposed action that will be the subject of the EA is the issuance of a research lease. In addition to the no action alternative (no lease issuance), other alternatives may be considered, such as exclusion of certain areas from project siting or modification of project activities. The EA will consider the reasonably foreseeable environmental consequences associated with lease issuance that are expected to take place following issuance of a research lease to the State of Maine, including the potential impacts of site characterization surveys and site assessment activities, such as the deployment and recovery of a meteorological buoy. BOEM has decided to prepare an EA for this proposed action in order to assist agency's planning and decision making (40 CFR 1501.5(b)). This notice starts the formal scoping process for the EA under 40 CFR 1501.9 and solicits information regarding additional important environmental issues and alternatives that should be considered in the EA. Additionally, BOEM will use the scoping process to identify and eliminate from detailed analysis issues that are not significant or that have been analyzed by prior environmental reviews (40 CFR 1501.9(f)(1)).

BOEM will use responses to this notice and the EA public input process to satisfy the public involvement requirements of the National Historic Preservation Act (54 U.S.C. 306108), as provided in 36 CFR 800.2(d)(3). Consequently, BOEM seeks information from the public on the identification of historic properties that might be impacted by the leasing activities should BOEM decide to issue the research lease. The analyses contained within the EA also will support compliance with other environmental statutes (e.g., Endangered Species Act, Magnuson-Stevens Fishery Conservation and Management Act, and Marine Mammal Protection Act).

The research lease would not authorize any activities on the Outer Continental Shelf, but would grant the State of Maine the exclusive rights to submit plans for BOEM approval. Prior to the approval of any plan authorizing the construction and operation of wind energy-related research facilities, BOEM would prepare a plan-specific environmental analysis and will comply with all required consultation requirements.

2. Cooperating Agencies

BOEM invites Federal, State, and local government agencies, as well as Tribal governments, to consider becoming cooperating agencies in the preparation of this EA. Council on Environmental Quality (CEQ) regulations implementing the procedural provisions of NEPA defines cooperating agencies as those with “jurisdiction by law or special expertise with respect to any environmental impact involved in a proposal (or a reasonable alternative)” (40 CFR 1508.1(e)). Potential cooperating agencies should consider their authority and capacity to assume the responsibilities of a cooperating agency and remember that an agency's role in the environmental analysis neither enlarges nor diminishes the final decision-making authority of any other agency involved in the NEPA process.

Upon request, BOEM will provide potential cooperating agencies with a draft memorandum of agreement that includes a schedule with critical action dates and milestones, mutual responsibilities, designated points of contact, and expectations for handling pre-decisional information. Agencies should also consider the “Factors for Determining Whether to Invite, Decline or End Cooperating Agency Status” in attachment 1 to CEQ's January 30, 2002, memorandum for Federal agencies titled, “Cooperating Agencies in Implementing the Procedural Requirements of the National Environmental Policy Act.” A copy of this document is available at: https://www.energy.gov/nepa/articles/cooperating-agencies-implementing-procedural-requirements-national-environmental.

BOEM, as the lead agency, will not provide financial assistance to cooperating agencies. Even if an organization is not a cooperating agency, opportunities will exist to provide information and comments to BOEM during the normal public input phases of the NEPA and EA process.

3. Comments

Federal, State, local government agencies, Tribal governments, and other interested parties are requested to send their written comments on the important issues to be considered in the EA by either of the following methods:

1. Federal eRulemaking Portal: https://www.regulations.gov. In the entry entitled, “Enter Keyword or ID,” enter BOEM-2023-0031, and then click “search.” Follow the instructions to submit public comments and view supporting and related materials available for this notice; or

2. By U.S. Postal Service or other delivery service, send your comments and information to the following address and marked “Gulf of Maine Research Lease EA”: Bureau of Ocean Energy Management, Office of Renewable Energy Programs, 45600 Woodland Road, Mail Stop VAM-OREP, Sterling, VA 20166.

Freedom of Information Act

BOEM will protect privileged or confidential information that you submit when required by the Freedom of Information Act (FOIA). Exemption 4 of FOIA applies to trade secrets and commercial or financial information that is privileged or confidential. If you wish to protect the confidentiality of such information, clearly label it and request that BOEM treat it as confidential. BOEM will not disclose such information if BOEM determines under 30 CFR 585.114(b) that it qualifies for exemption from disclosure under FOIA. Please label privileged or confidential information “Contains Confidential Information” and consider submitting such information as a separate attachment.

BOEM will not treat as confidential any aggregate summaries of such information or comments not containing such privileged or confidential information. Information that is not labeled as privileged or confidential may be regarded by BOEM as suitable for public release.

b. Personally Identifiable Information

BOEM encourages you not to submit anonymous comments. Please include your name and address as part of your comment. You should be aware that your entire comment, including your name, address, and any personally identifiable information (PII) included in your comment, may be made publicly available. All submissions from identified individuals, businesses, and organizations will be available for public viewing on regulations.gov. Note that BOEM will make available for public inspection all comments, in their entirety, submitted by organizations and businesses, or by individuals identifying themselves as representatives of organizations or businesses.

For BOEM to consider withholding your PII from disclosure, you must identify any information contained in your comments that, if released, would constitute a clearly unwarranted invasion of your personal privacy. You must also briefly describe any possible harmful consequences of the disclosure of information, such as embarrassment, injury, or other harm. Even if BOEM withholds your information in the context of this rulemaking, your submission is subject to FOIA and, if your submission is requested under the FOIA, your information will only be withheld if a determination is made that one of the FOIA's exemptions to disclosure applies. Such a determination will be made in accordance with the Department's FOIA regulations and applicable law.

c. Section 304 of the NHPA (54 U.S.C. 307103(a))

After consultation with the Secretary, BOEM is required to withhold the location, character, or ownership of historic resources if it determines that disclosure may, among other things, risk harm to the historic resources or impede the use of a traditional religious site by practitioners. Tribal entities should designate information that falls under section 304 of NHPA as confidential.

Elizabeth Klein,
Director, Bureau of Ocean Energy Management.

[FR Doc. 2023-09478 Filed 5-3-23; 8:45 am]

BILLING CODE 4340-98-P